FEDERAL MARITIME COMMISSION

[Docket No. 21-08]

Eucatex of North America Inc., Complainant v. CMA CGM (America) LLC and Fenix Marine Services Ltd., Respondents; Notice of Filing of Complaint and Assignment

Served: September 14, 2021.

Notice is given that a complaint has been filed with the Federal Maritime Commission (Commission) by Eucatex of North America Inc., hereinafter “Complainant”, against CMA CGM (America) LLC (CMA) and Fenix Marine Services Ltd. (FMS), hereinafter “Respondents”. Complainant state that it is a Georgia corporation. Complainant alleges that Respondent CMA is a New Jersey company and a common carrier under 46 U.S.C. 40102(7), and that Respondent FMS is a Delaware corporation and a marine terminal operator under 46 U.S.C. 40102(15).

Complainant alleges that Respondents violated 46 U.S.C. 41102(c), and 46 CFR 545.4 and 545.5, in relation to demurrage charges imposed on several shipments. The full text of the complaint can be found in the Commission's Electronic Reading Room at https://www2.fmc.gov/readingroom/proceeding/21-08/.

This proceeding has been assigned to Office of Administrative Law Judges. The initial decision of the presiding office in this proceeding shall be issued by September 14, 2022, and the final decision of the Commission shall be issued by March 28, 2023.

Rachel E. Dickon,
Secretary.

[FR Doc. 2021-20179 Filed 9-16-21; 8:45 am]

BILLING CODE 6730-02-P